ENVIRONMENTAL PROTECTION AGENCY

40 CFR Part 52

[ME-064-7013a; A-1-FRL-8719-7]

Approval and Promulgation of Air Quality Implementation Plans; Revised Format for Materials Being Incorporated by Reference for Maine

AGENCY: Environmental Protection Agency (EPA).

ACTION: Final rule; notice of administrative change.

SUMMARY: EPA is revising the format of 40 CFR part 52 for materials submitted by the State of Maine that are incorporated by reference (IBR) into its State Implementation Plan (SIP). The regulations affected by this format change have all been previously submitted by Maine and approved by EPA.

DATES: Effective Date: This rule is effective on October 1, 2008.

ADDRESSES: SIP materials which are incorporated by reference into 40 CFR part 52 are available for inspection at the Office of Ecosystem Protection, U.S. Environmental Protection Agency, EPA New England Regional Office, One Congress Street, Suite 1100, Boston, MA. EPA requests that if at all possible, you contact the contact listed in the FOR FURTHER INFORMATION CONTACT section to schedule your inspection. The Regional Office's official hours of business are Monday through Friday, 8:30 to 4:30, excluding legal holidays.

An electronic copy of the Maine regulations we have approved for incorporation into the SIP are also available by accessing http://www.epa.gov/ne/topics/air/sips.html. A hard copy of the regulatory and source-specific portions of the compilation will also be maintained at the Air and Radiation Docket and Information Center, EPA West Building, Room 3334, 1301 Constitution Ave., NW., Washington, DC 20460 and the National Archives and Records Administration (NARA). If you wish to obtain materials from a docket in the EPA Headquarters Library, please call the Office of Air and Radiation (OAR) Docket/Telephone number (202) 566-1742. For information on the availability of this material at NARA, call (202) 741-6030, or go to: http://www.archives.gov/federal_register/code_of_federal_regulations/ibr_locations.html.

FOR FURTHER INFORMATION CONTACT: Donald O. Cooke, Air Quality Planning Unit, U.S. Environmental Protection Agency, EPA New England Regional Office, One Congress Street, Suite 1100 (CAQ), Boston, MA 02114-2023, telephone number (617) 918-1668, fax number (617) 918-0668, e-mail cooke.donald@epa.gov.

SUPPLEMENTARY INFORMATION: Throughout this document whenever “we,” “us,” or “our” is used, we mean EPA.

Organization of this document. The following outline is provided to aid in locating information in this preamble.

I. Change of IBR Format

A. Description of a SIP

B. How EPA Enforces the SIP

C. How the State and EPA Update the SIP

D. How EPA Compiles the SIP

E. How EPA Organizes the SIP Compilation

F. Where You Can Find a Copy of the SIP Compilation

G. The Format of the New Identification of Plan Section

H. When a SIP Revision Becomes Federally Enforceable

I. The Historical Record of SIP Revision Approvals

II. What EPA is Doing in This Action

III. Good Cause Exemption

IV. Statutory and Executive Order Reviews

A. General Requirements

B. Submission to Congress and the Comptroller General

C. Petitions for Judicial Review

I. Change of IBR Format

This format revision will affect the “Identification of plan” section of 40 CFR part 52, as well as the format of the SIP materials that will be available for public inspection at the National Archives and Records Administration (NARA); the Air and Radiation Docket and Information Center located at EPA Headquarters in Washington, DC, and the EPA New England Regional Office.

A. Description of a SIP

Each state has a SIP containing the control measures and strategies used to attain and maintain the national ambient air quality standards (NAAQS) and achieve certain other Clean Air Act (Act) requirements (e.g., visibility requirements and prevention of significant deterioration). The SIP is extensive, containing such elements as air pollution control regulations, emission inventories, monitoring network descriptions, attainment demonstrations, and enforcement mechanisms.

B. How EPA Enforces the SIP

Each SIP revision submitted by Maine must be adopted at the state level after undergoing reasonable notice and opportunity for public comment. SIPs submitted to EPA to attain or maintain the NAAQS must include enforceable emission limitations and other control measures, schedules and timetables for compliance.

EPA evaluates submitted SIPs to determine if they meet the Act's requirements. If a SIP meets the Act's requirements, EPA will approve the SIP. EPA's notice of approval is published in the Federal Register and the approval is then codified in the Code of Federal Regulations (CFR) at 40 CFR part 52. Once EPA approves a SIP, it is enforceable by EPA and citizens in Federal district court.

We do not reproduce in 40 CFR part 52 the full text of the Maine regulations that we have approved; instead, we incorporate them by reference (“IBR”). We approve a given state regulation with a specific effective date and then refer the public to the location(s) of the full text version of the state regulation(s) should they want to know which measures are contained in a given SIP (see “I.F. Where You Can Find a Copy of the SIP Compilation”).

C. How the State and EPA Update the SIP

The SIP is a living document which the state can revise as necessary to address the unique air pollution problems in the state. Therefore, EPA from time to time must take action on SIP revisions containing new and/or revised regulations.

On May 22, 1997 (62 FR 27968), EPA announced revised procedures for incorporating by reference federally approved SIPs. The procedures announced included: (1) A new process for incorporating by reference material submitted by states into compilations and a process for updating those compilations on roughly an annual basis; (2) a revised mechanism for announcing EPA approval of revisions to an applicable SIP and updating both the compilations and the CFR; and (3) a revised format for the “Identification of plan” sections for each applicable subpart to reflect these revised IBR procedures.

D. How EPA Compiles the SIP

We have organized into a compilation the federally-approved regulations, source-specific requirements and nonregulatory provisions we have approved into the SIP. We maintain hard copies of the compilation in binders and we primarily update these binders on an annual basis.

E. How EPA Organizes the SIP Compilation

Each compilation contains three parts. Part one contains the state regulations, part two contains the source-specific requirements that have been approved as part of the SIP (if any), and part three contains nonregulatory provisions that we have approved. Each compilation contains a table of identifying information for each regulation, each source-specific requirement, and each nonregulatory provision. The state effective dates in the tables indicate the date of the most recent revision to a particular regulation. The table of identifying information in the compilation corresponds to the table of contents published in 40 CFR part 52 for the state. The EPA Regional Offices have the primary responsibility for ensuring accuracy and updating the compilations.

F. Where You Can Find a Copy of the SIP Compilation

EPA New England developed and will maintain a hard copy of the compilation for Maine. An electronic copy of the Maine regulations we have approved are available on the following Web site: http://www.epa.gov/ne/topics/air/sips.html. A hard copy of the regulatory and source-specific portions of the compilation will also be maintained at the Air and Radiation Docket and Information Center, EPA West Building, Room 3334, 1301 Constitution Ave., NW., Washington, DC 20460; and National Archives and Records Administration (NARA). If you wish to obtain materials from a docket in the EPA Headquarters Library, please call the Office of Air and Radiation (OAR) Docket/Telephone number (202) 566-1742. For information on the availability of this material at NARA, call (202) 741-6030, or go to: http://www.archives.gov/federal_register/code_of_federal_regulations/ibr_locations.html.

G. The Format of the New Identification of Plan Section

In order to better serve the public, EPA has revised the organization of the “Identification of plan” section in 40 CFR part 52 and included additional information to clarify the elements of the SIP.

The revised Identification of plan section for Maine contains five subsections:

1. Purpose and scope (see 40 CFR 52.1020(a));

2. Incorporation by reference (see 40 CFR 52.1020(b));

3. EPA-approved regulations (see 40 CFR 52.1020(c));

4. EPA-approved source-specific requirements (see 40 CFR 52.1020(d)); and

5. EPA-approved nonregulatory provisions such as transportation control measures, statutory provisions, monitoring networks, etc. (see 40 CFR 52.1020(e)).

H. When a SIP Revision Becomes Federally Enforceable

All revisions to the applicable SIP are federally enforceable as of the effective date of EPA's approval of the respective revisions. In general, SIP revisions become effective 30 to 60 days after publication of EPA's SIP approval action in the Federal Register. In specific cases, a SIP revision action may become effective less than 30 days or greater than 60 days after the Federal Register publication date. In order to determine the effective date of EPA's approval for a specific Maine SIP provision that is listed in paragraph 40 CFR 52.1020 (c), (d), or (e), consult the volume and page of the Federal Register cited in the “EPA approval date” column of 40 CFR 52.1020 for that particular provision.

I. The Historical Record of SIP Revision Approvals

To facilitate enforcement of previously approved SIP provisions and to provide a smooth transition to the new SIP processing system, we are retaining the original Identification of plan section (see 40 CFR 52.1037). This section previously appeared at 40 CFR 52.1020. After an initial two-year period, we will review our experience with the new table format and will decide whether or not to retain the original Identification of plan section (40 CFR 52.1037) for some further period.

II. What EPA Is Doing in This Action

Today's action constitutes a “housekeeping” exercise to reformat the codification of the EPA-approved Maine SIP.

III. Good Cause Exemption

EPA has determined that today's action falls under the “good cause” exemption in section 553(b)(3)(B) of the Administrative Procedure Act (APA) which, upon a finding of “good cause,” authorizes agencies to dispense with public participation, and section 553(d)(3), which allows an agency to make a rule effective immediately (thereby avoiding the 30-day delayed effective date otherwise provided for in the APA). Today's action simply reformats the codification of provisions which are already in effect as a matter of law.

Under section 553 of the APA, an agency may find good cause where procedures are “impractical, unnecessary, or contrary to the public interest.” Public comment is “unnecessary” and “contrary to the public interest” since the codification only reflects existing law. Likewise, there is no purpose served by delaying the effective date of this action.

IV. Statutory and Executive Order Reviews

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the Supplementary Information section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). EPA's compliance with these statutes and Executive Orders for the underlying rules is discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's action simply reformats the codification of provisions which are already in effect as a matter of law, 5 U.S.C. 808(2). As stated previously, EPA has made such a good cause finding, including the reasons therefore, and established an effective date of March 1, 2007. EPA will submit a report containing this rule and other required information to the U.S. Senate, the U.S. House of Representatives, and the Comptroller General of the United States prior to publication of the rule in the Federal Register. These corrections to the Identification of plan for Maine is not a “major rule” as defined by 5 U.S.C. 804(2).

C. Petitions for Judicial Review

EPA has also determined that the provisions of section 307(b)(1) of the Clean Air Act pertaining to petitions for judicial review are not applicable to this action. Prior EPA rulemaking actions for each individual component of the Maine SIP compilation had previously afforded interested parties the opportunity to file a petition for judicial review in the United States Court of Appeals for the appropriate circuit within 60 days of such rulemaking action. Thus, EPA sees no need to reopen the 60-day period for filing such petitions for judicial review for this reorganization of the “Identification of plan” section of 40 CFR 52.1020 for Maine.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: September 17, 2008.
Robert W. Varney,
Regional Administrator, EPA New England.

Part 52 of chapter I, title 40, Code of Federal Regulations, is amended as follows:

PART 52—[AMENDED]

1. The authority for citation for part 52 continues to read as follows:

Authority: 42 U.S.C. 7401 et seq.

Subpart U—Maine

2. Section 52.1020 is redesignated as § 52.1037 and the section heading and paragraph (a) are revised to read as follows:

§ 52.1037 Original identification of plan section.

(a) This section identifies the original “Air Implementation Plan for the State of Maine” and all revisions submitted by Maine that were federally approved prior to September 1, 2008.

* * * * *

3. A new § 52.1020 is added to read as follows:

§ 52.1020 Identification of plan.

(a) Purpose and scope. This section sets forth the applicable State Implementation Plan for Maine under section 110 of the Clean Air Act, 42 U.S.C. 7410 and 40 CFR part 51 to meet national ambient air quality standards or other requirements under the Clean Air Act.

(b) Incorporation by reference. (1) Material listed in paragraphs (c) and (d) of this section with an EPA approval date prior to September 1, 2008, was approved for incorporation by reference by the Director of the Federal Register in accordance with 5 U.S.C. 552(a) and 1 CFR part 51. Material is incorporated as submitted by the state to EPA, and notice of any change in the material will be published in the Federal Register. Entries for paragraphs (c) and (d) of this section with EPA approval dates after September 1, 2008, will be incorporated by reference in the next update to the SIP compilation.

(2) EPA Region 1 certifies that the rules/regulations provided by EPA in the SIP compilation at the addresses in paragraph (b)(3) of this section are an exact duplicate of the officially promulgated state rules/regulations which have been approved as part of the State Implementation Plan as of September 1, 2008.

(3) Copies of the materials incorporated by reference may be inspected at the Environmental Protection Agency, New England Regional Office, One Congress Street, Suite 1100, Boston, MA 02114-2023; Air and Radiation Docket and Information Center, EPA West Building, 1301 Constitution Ave., NW., Washington, DC 20460; and the National Archives and Records Administration (NARA). If you wish to obtain materials from a docket in the EPA Headquarters Library, please call the Office of Air and Radiation (OAR) Docket/Telephone number (202) 566-1742. For information on the availability of this material at NARA, call (202) 741-6030, or go to: http://www.archives.gov/federal_register/code_of_federal_regulations/ibr_locations.html.

(c) EPA approved regulations.

EPA-Approved Maine Regulations
State citation | Title/Subject | State effective date | EPA Approval Date EPA approval date and citation ¹ | Explanations
Chapter 1 | Regulations for the Processing of Applications | 05/20/1985 | 03/23/1993, 58 FR 15422 | Portions of Chapter 1. EPA did not approve the following sections of Chapter One: Section 1(A) through 1(Q), and 1(U) through 1(EE); Section 2; Section 4 (C) and (D); last sentence of Section 5(B); last sentence of Section 6(B); Section 6(D); Section 7(B)(1), (B)(2), and (B)(4) through (B)(11); Section 8(A), and 8(E) through 8(L); Sections 9, 10 and 11; Section 13; and Sections 15 and 16.
Chapter 100 | Definitions | 12/01/2005 | 11/21/2007, 72 FR 65462
Chapter 101 | Visible Emissions | 10/10/1979 | 02/17/1982, 47 FR 6829
Chapter 102 | Open Burning | 03/17/2005 | 02/21/2008, 73 FR 9459
Chapter 103 | Fuel Burning Equipment Particular Emission Standard | 01/24/1983 | 02/26/1985, 50 FR 7770
Chapter 104 | Incinerator Particulate Emission Standard | 01/31/1972 | 05/31/1972, 37 FR 10842
Chapter 105 | General Process Source Particulate Emission Standard | 01/31/1972 | 05/31/1972, 37 FR 10842
Chapter 106 | Low Sulfur Fuel Regulations | 02/08/1978 | 01/08/1982, 47 FR 947
Chapter 107 | Sulfur Dioxide Emission Standards for Sulfate Pulp Mills | 01/31/1972 | 05/31/1972, 37 FR 10842
Chapter 109 | Emergency Episode Regulation | 08/14/1991 | 01/12/1995, 60 FR 2885
Chapter 110 | Ambient Air Quality Standards | 07/24/1996 | 03/22/2004, 69 FR 13227
Chapter 111 | Petroleum Liquid Storage Vapor Control | 09/27/1989 | 02/03/1992, 57 FR 3946
Chapter 112 | Gasoline Bulk Terminals | 07/19/1995 | 10/15/1996, 61 FR 53636
Chapter 113 | Growth Offset Regulation | 06/22/1994 | 02/14/1996, 61 FR 5690
Chapter 114 | Classification of Air Quality Control Regions | 04/27/1994 | 08/30/1995, 60 FR 45056 | Revision to Remove Presque Isle as nonattainment for PM10.
Chapter 115 | Emission License Regulation | 06/22/1994 | 02/14/1996, 61 FR 5690
Chapter 116 | Prohibited Dispersion Techniques | 10/25/1989 | 03/23/1993, 58 FR 15422
Chapter 117 | Source Surveillance | 08/09/1988 | 03/21/1989, 54 FR 11524
Chapter 118 | Gasoline Dispensing Facilities | 07/19/1995 | 10/15/1996, 61 FR 53636
Chapter 119 | Motor Vehicle Fuel Volatility Limit | 06/01/2000 | 03/06/2002, 67 FR 10099 | Controls fuel volatility in the state. 7.8 psi RVP fuel required in 7 southern counties.
Chapter 120 | Gasoline Tank Trucks | 06/22/1994 | 06/29/1995, 60 FR 33730
Chapter 123 | Paper Coater Regulation | 09/27/1989 | 02/03/1992, 57 FR 3946 | The operating permits for S.D. Warren of Westbrook, Eastern Fine Paper of Brewer, and Pioneer Plastics of Auburn incorporated by reference at 40 CFR § 52.1020 (c)(11), (c)(11), and (c)(18), respectively, are withdrawn.
Chapter 126 | Capture Efficiency Test Procedures | 05/22/1991 | 03/22/1993, 58 FR 15281
Chapter 126 Appendix A | Capture Efficiency Test Procedures | 05/22/1991 | 03/22/1993, 58 FR 15281 | Appendix.
Chapter 127 and Appendix A | New Motor Vehicle Emission Standards | 12/31/2000 | 04/28/2005, 70 FR 21959 | Including Appendix A. Low emission vehicle program, with no ZEV requirements. Program achieves 90% of full LEV benefits. Chapter 127 Basis Statement included in the nonregulatory material.
Chapter 129 | Surface Coating Facilities | 01/06/1993 | 06/17/1994, 59 FR 31154
Chapter 129 Appendix A | Surface Coating Facilities | 01/06/1993 | 06/17/1994, 59 FR 31154 | Appendix.
Chapter 130 | Solvent Cleaners | 06/17/2004 | 05/26/2005, 70 FR 30367
Chapter 131 | Cutback and Emulsified Asphalt | 01/06/1993 | 06/17/1994, 59 FR 31154
Chapter 132 | Graphic Arts: Rotogravure and Flexography | 01/06/1993 | 06/17/1994, 59 FR 31154
Chapter 132 Appendix A | Graphic Arts: Rotogravure and Flexography | 01/06/1993 | 06/17/1994, 59 FR 31154 | Appendix.
Chapter 133 | Gasoline Bulk Plants | 06/22/1994 | 06/29/1995, 60 FR 33730
Chapter 134 | Reasonably Available Control Technology for Facilities that Emit Volatile Organic Compounds | 02/08/1995 | 04/18/2000, 65 FR 20749 | Regulations fully approved for the following counties: York, Sagadahoc, Cumberland, Androscoggin, Kennebec, Knox, Lincoln, Hancock, Waldo, Aroostock, Franklin, Oxford, and Piscataquis. Regulation granted a limited approval for Washington, Somerset, and Penobscot Counties.
Chapter 137 | Emission Statements | 07/06/2004 | 11/21/2007, 72 FR 65462 | Revised to incorporate changes required by EPA's consolidated emissions reporting rule. The entire rule is approved with the exception of HAP and greenhouse gas reporting requirements which were not included in the State's SIP revision request.
Chapter 138 | Reasonably Available Control Technology for Facilities that Emit Nitrogen Oxides | 08/03/1994 | 09/09/2002, 67 FR 57148 | Affects sources in York, Cumberland, Sagadahoc, Androscoggin, Kennebec, Lincoln, and Knox counties.
Chapter 139 | Transportation Conformity | 09/19/2007 | 02/08/2008, 73 FR 7465
Chapter 141 | Conformity of General Federal Actions | 04/19/2007 | 02/20/2008, 73 FR 9203
Chapter 145 | NOX Control Program | 06/21/2001 | 03/10/2005, 70 FR 11879
Chapter 148 | Emissions from Smaller-Scale Electric Generating Resources | 07/15/2004 | 05/26/2005, 70 FR 30373
Chapter 151 | Architectural and Industrial Maintenance (AIM) Coatings | 10/06/2005 | 03/17/2006, 71 FR 13767
Chapter 152 | Control of Emissions of Volatile Organic Compounds from Consumer Products | 08/19/2004 | 10/24/2005, 70 FR 61382
Chapter 153 | Mobile Equipment Repair and Refinishing | 02/05/2004 | 05/26/2005, 70 FR 30367
Chapter 155 | Portable Fuel Container Spillage Control | 07/14/2004 | 02/07/2005, 70 FR 6352 | With the exception of the word “or” in Subsection 7C which Maine did not submit as part of the SIP revision.
Vehicle I/M | Vehicle Inspection and Maintenance | 07/09/1998 | 01/10/2001, 66 FR 1871 | “Maine Motor Vehicle Inspection Manual,” revised in 1998, pages 1-12 through 1-14, and page 2-14, D.1.g.
Vehicle I/M | Vehicle Inspection and Maintenance | 07/09/1998 | 01/10/2001, 66 FR 1871 | Maine Motor Vehicle Inspection and Maintenance authorizing legislation effective July 9, 1998 and entitled L.D. 2223, “An Act to Reduce Air Pollution from Motor Vehicles and to Meet Requirements of the Federal Clean Air Act.”
¹ In order to determing the EPA effective date for a specific provision listed in this table, consult the Federal Register notice cited in this column for the particular provision.

(d) EPA-approved State Source specific requirements.

EPA-Approved Maine Source Specific Requirements
Name of source | Permit number | State effective date | EPA approval date ² | Explanations
Central Maine Power, W.F. Wyman Station, Cousins Island, Yarmouth, Maine | Department Finding of Fact and Order Air Emission License | 01/01/1977 | 01/08/1982, 47 FR 947 |
Lincoln Pulp and Paper Company, Kraft Pulp Mill, (Lincoln, Maine) | Air Emission License Renewal; and New License for No. 6 Boiler | 03/09/1983 | 05/01/1985, 50 FR 18483 |
JJ Nissen Baking Company, Cumberland County, Portland Maine | Air Emission License A-440-74-C-A | 02/27/1997 | 04/18/2000, 65 FR 20749 | VOC RACT Determination issued by Maine Department of Environmental Protection (ME DEP) on February 25, 1997.
Prime Tanning Company, York County, Berwick, Maine | Air Emission License Amendment #5 A-376-72-E-A | 03/23/1997 | 04/18/2000, 65 FR 20749 | VOC RACT Determination issued by ME DEP on July 23, 1997.
Prime Tanning Company, York County, Berwick, Maine | Air Emission License Amendment #6 A-376-72-F-M | 10/28/1997 | 04/18/2000, 65 FR 20749 | VOC RACT Determination issued by ME DEP on October 27, 1997.
Portsmouth Naval Shipyard, York County, Kittery, Maine | Air Emission License Amendment #4 A-452-71-F-M | 07/25/1997 | 04/18/2000, 65 FR 20749 | VOC RACT Determination issued by ME DEP on July 25, 1997.
Dexter Shoe Company, Penobscot County, Dexter, Maine | Air Emission License A-175-72-H-A/R | 12/05/1996 | 04/18/2000, 65 FR 20749 | VOC RACT Determination issued by ME DEP on December 5, 1996.
Dexter Shoe Company, Penobscot County, Dexter, Maine | Air Emission License Amendment #1 A-175-71-I-M | 10/22/1997 | 04/18/2000, 65 FR 20749 | VOC RACT Determination issued by ME DEP on October 20, 1997.
Pioneer Plastics Corporation, Androscoggin County, Auburn, Maine | Air Emission License Amendment #3 A-448-71-P-A | 06/16/1997 | 04/18/2000, 65 FR 20749 | VOC RACT Determination issued by ME DEP on June 16, 1997.
Georgia Pacific Corporation, Washington County, Woodland, Maine | Air Emission License Minor Revision/ Amendment #10 A-215-71-T-M | 01/05/1996 | 04/18/2000, 65 FR 20749 | VOC RACT Determination issued by ME DEP on January 4, 1996.
Champion International Corporation, Hancock County, Bucksport, Maine | Air Emission License Amendment #5 A-22-71-K-A | 01/19/1996 | 04/18/2000, 65 FR 20749 | VOC RACT Determination issued by ME DEP on January 18, 1996.
International Paper Company, Franklin County, Jay, Maine | Air Emission License Amendment #8 A-203-71-R-A | 10/04/1995 | 04/18/2000, 65 FR 20749 | VOC RACT Determination issued by ME DEP on October 4, 1995.
International Paper Company, Franklin County, Jay, Maine | Air Emission License Amendment #9 A-203-71-S-M | 12/13/1995 | 04/18/2000, 65 FR 20749 | VOC RACT Determination issued by ME DEP on December 13, 1995.
James River Corporation, Penobscot County, Old Town, Maine | Air Emission License Minor Revision/ Amendment #6 A-180-71-R-M | 12/11/1995 | 04/18/2000, 65 FR 20749 | VOC RACT Determination issued by ME DEP on December 8, 1995.
Lincoln Pulp and Paper Company, Penobscot County, Lincoln, Maine | Air Emission License Amendment #8 A-177-71-J-M | 12/19/1995 | 04/18/2000, 65 FR 20749 | VOC RACT Determination issued by ME DEP on December 18, 1995.
S.D. Warren Paper Company, Cumberland County, Westbrook, Maine | Air Emission License Minor Revision/ Amendment #14 A-29-71-Z-M | 12/19/1995 | 04/18/2000, 65 FR 20749 | VOC RACT Determination issued by ME DEP on December 18, 1995.
S.D. Warren Paper Company, Somerset County, Skowhegan, Maine | Air Emission License Amendment #14 A-19-71-W-M | 10/04/1995 | 04/18/2000, 65 FR 20749 | VOC RACT Determination issued by ME DEP on October 4, 1995.
S.D. Warren Paper Company, Somerset County, Skowhegan, Maine | Air Emission License Amendment #15 A-19-71-Y-M | 01/10/1996 | 04/18/2000, 65 FR 20749 | VOC RACT Determination issued by ME DEP on January 9, 1996.
Boise Cascade Corporation, Oxford County, Rumford, Maine | Air Emission License Amendment #11 A-214-71-X-A | 12/21/1995 | 04/18/2000, 65 FR 20749 | VOC RACT Determination issued by ME DEP on December 20, 1995.
Bath Iron Works Corporation, Sagadahoc County, Bath, Maine | Departmental Finding of Fact and Order Air Emission License Amendment #10 A-333-71-M-M | 04/11/2001 | 05/20/2002, 67 FR 35439 | VOC RACT determination for Bath Iron Works.
United Technologies Pratt & Whitney, York County, North Berwick, Maine | Departmental Finding of Fact and Order Air Emission License Amendment #6 A-453-71-N-M | 04/26/2001 | 05/20/2002, 67 FR 35439 | VOC RACT determination for Pratt & Whitney.
United Technologies Pratt & Whitney, York County, North Berwick, Maine | Departmental Finding of Fact and Order Air Emission License Amendment #7 A-453-71-O-M | 07/02/2001 | 05/20/2002, 67 FR 35439 | VOC RACT determination for Pratt & Whitney.
Moosehead Manufacturing Company, Piscataquis County, Dover-Foxcroft, Maine | Departmental Finding of Fact and Order Air Emission License Amendment #2 A-338-71-F-M | 05/10/2001 | 05/20/2002, 67 FR 35439 | VOC RACT determination for Moosehead Manufacturing's Dover-Foxcroft plant.
Moosehead Manufacturing Company, Piscataquis County, Monson, Maine | Departmental Finding of Fact and Order Air Emission License Amendment #2 A-339-71-F-M | 05/10/2001 | 05/20/2002, 67 FR 35439 | VOC RACT determination for Moosehead Manufacturing's Monson plant.
Central Maine Power Company, W.F. Wyman Station, Cumberland County, Yarmouth, Maine | Departmental Finding of Fact and Order Air Emission License Amendment #1 A-388-71-C-A | 05/18/1995 | 09/09/2002, 67 FR 57148 | Case-specific NOX RACT. Air emission license A-388-71-C-A, Amendment #1, condition (q) for FPL Energy's (formerly Central Maine Power) W.F. Wyman Station.
Central Maine Power Company, W.F. Wyman Station, Cumberland County, Yarmouth, Maine | Departmental Finding of Fact and Order Air Emission License Amendment #1 A-388-71-D-M | 02/16/1996 | 09/09/2002, 67 FR 57148 | Case-specific NOX RACT. Air emission license A-388-71-D-M, amendment #1, conditions 19 and 23 for FPL Energy's (formerly Central Maine Power) W.F. Wyman Station.
Tree Free Fiber Company, LLC, Kennebec County, Augusta, Maine | Departmental Finding of Fact and Order Air Emission License Amendment #1 A-195-71-G-M | 06/12/1996 | 09/09/2002, 67 FR 57148 | Case-specific NOX RACT. Air emission license A-195-71-G-M, Amendment #1, for Tree Free Fiber Company, LLC, (formerly Statler Industries Inc.).
Tree Free Fiber Company, LLC, Kennebec County, Augusta, Maine | Departmental Finding of Fact and Order Air Emission License Amendment #1 A-195-71-D-A/R | 06/16/1995 | 09/09/2002, 67 FR 57148 | Case-specific NOX RACT. Air emission license A-195-71-D-A/R, section (II)(D), paragraphs (II)(F)(1) and (3), and conditions 12(A), 12(C), (13), (14) and (15) for Tree Free Fiber Company, LLC, (formerly Statler Industries Inc.).
Pioneer Plastics Corporation, Androscoggin County, Auburn, Maine | Departmental Finding of Fact and Order Air Emission License A-448-72-K-A/R | 08/23/1995 | 09/09/2002, 67 FR 57148 | Case-specific NOX RACT. Air emission license A-448-72-K-A/R, paragraphs (II)(D)(2), (II)(D)(3) and conditions (13)(f) and 14(k) for Pioneer Plastics Corporation.
Pioneer Plastics Corporation, Androscoggin County, Auburn, Maine | Departmental Finding of Fact and Order Air Emission License Amendment #2 A-448-71-O-M | 03/10/1997 | 09/09/2002, 67 FR 57148 | Case-specific NOX RACT. Air emission license A-448-71-O-M, Amendment #2, condition (14)(k), for Pioneer Plastics Corporation.
Scott Paper Company, Kennebec County, Winslow, Maine | Departmental Finding of Fact and Order Air Emission License Amendment #2 A-188-72-E-A | 11/15/1995 | 09/09/2002, 67 FR 57148 | Case-specific NOX RACT. Air emission license A-188-72-E-A, Amendment #2, conditions 8, paragraph 1, and 9, paragraphs 1, 2 and 4, for Scott Paper Company.
The Chinet Company, Kennebec County, Waterville, Maine | Departmental Finding of Fact and Order Air Emission License A-416-72-B-A | 01/18/1996 | 09/09/2002, 67 FR 57148 | Case-specific NOX RACT. Air emission license A-416-72-B-A, conditions (l) 1, 2, 3a, 3b, 3c, 3e, and (m) for The Chinet Company.
FMC Corporation-Food Ingredients Division, Knox County, Rockland, Maine | Departmental Finding of Fact and Order Air Emission License Amendment #5 A-366-72-H-A | 02/07/1996 | 09/09/2002, 67 FR 57148 | Case-specific NOX RACT. Air emission license A-366-72-H-A, Amendment #5, conditions 3, 4, 5, 7, 9, 11, 12, 15, 16, and 18 for FMC Corporation-Food Ingredients Division.
Dragon Products Company, Inc., Knox County, Thomaston, Maine | Departmental Finding of Fact and Order Air Emission License Amendment #5 A-326-72-N-A | 06/05/1996 | 09/09/2002, 67 FR 57148 | Case-specific NOX RACT.
Dragon Products Company, Inc., Knox County, Thomaston, Maine | Departmental Finding of Fact and Order Air Emission License Amendment #7 A-326-71-P-M | 03/05/1997 | 09/09/2002, 67 FR 57148 | Case-specific NOX RACT.
S.D. Warren Paper Company, Cumberland County, Westbrook, Maine | Departmental Finding of Fact and Order Air Emission License Amendment #13 A-29-71-Y-A | 06/12/1996 | 09/09/2002, 67 FR 57148 | Case-specific NOX RACT. Air emission license A-29-71-Y-A, Amendment #13, conditions (k)2, (k)3, (q)8 and (p) for S.D. Warren Company.
Mid-Maine Waste Action Corporation, Androscoggin County, Auburn, Maine | Departmental Finding of Fact and Order Air Emission License Amendment #2 A-378-72-E-A | 10/16/1996 | 09/09/2002, 67 FR 57148 | Case-specific NOX RACT.
Portsmouth Naval Shipyard, York County, Kittery, Maine | Departmental Finding of Fact and Order Air Emission License Amendment #2 A-452-71-D-A | 10/21/1996 | 09/09/2002, 67 FR 57148 | Case-specific NOX RACT. Air emission license A-452-71-D-A, Amendment #2, conditions 3, 4, 5, 7, 9, 11, 16, 17, 18, 19, and 20 for Portsmouth Naval Shipyard.
Portsmouth Naval Shipyard, York County, Kittery, Maine | Departmental Finding of Fact and Order Air Emission License Amendment #4 A-452-71-F-M | 07/25/1997 | 09/09/2002, 67 FR 57148 | Case-specific NOX RACT. Air emission license A-452-71-F-M, Amendment #4, condition 4 for Portsmouth Naval Shipyard.
Maine Energy Recovery Company, York County, Biddeford, Maine | Departmental Finding of Fact and Order Air Emission License Amendment #4 A-46-71-L-A | 11/12/1996 | 09/09/2002, 67 FR 57148 | Case-specific NOX RACT.
² In order to determine the EPA effective date for a specific provision listed in this table, consult the Federal Register notice cited in this column for the particular provision.

(e) Nonregulatory.

Maine Non Regulatory
Name of non regulatory SIP provision | Applicable geographic or nonattainment area | State submittal date/effective date | EPA approved date ³ | Explanations
Impact of Projected Growth for Next 10 Years on Air Quality for Maine Standard Metropolitan Statistical Areas | Maine's Standard Metropolitan Statistical Areas | 06/26/1974 | 04/29/1975, 40 FR 18726 |
Incinerator Emission Standard—Regulation Implementation Plan Change, Findings of Fact and Order | Maine | 05/21/1975 | 04/10/1978, 43 FR 14964 | Revision to incinerator particulate emission standard which would exempt wood waste cone burners from the plan until 1980.
Incinerator Emission Standard—Regulation and Implementation Plan Change, Findings of Fact and Order | Maine | 09/24/1975 | 04/10/1978, 43 FR 14964 | Revision to incinerator particulate emission standard which would exempt municipal waste cone burners from the plan until 1980.
Air Quality Surveillance | Maine | 03/10/1978 | 03/23/1979, 44 FR 17674 | Revision to Chapter 5 of the SIP.
New Sources and Modifications | Maine | 03/10/1978 | 03/23/1979, 44 FR 17674 | Revision to Chapter 6 of the SIP.
Review of New Sources and Modifications | Maine | 12/19/1979 | 01/30/1980, 45 FR 6784 | Revision to Chapter 6 of the SIP.
Revisions to State Air Implementation Plan as Required by the Federal Clean Air Act | Maine | 03/28/1979 | 02/19/1980, 45 FR 10766 | Includes Control Strategies for Particulates, Carbon Monoxide, and ozone.
Plan for Public Involvement in Federally Funded Air Pollution Control Activities | Maine | 05/28/1980 | 09/09/1980, 45 FR 59314 | A plan to provide for public involvement in federally funded air pollution control activities.
Air Quality Surveillance | Maine | 07/01/1980 | 01/22/1981, 46 FR 6941 | Revision to Chapter 5 of the SIP.
Attain and Maintain the NAAQS for Lead | Maine | 11/05/1980 | 08/27/1981, 46 FR 43151 | Control Strategy for Lead. Revision to Chapter 2.5.
Establishment of Air Quality Control Sub-Region | Metropolitan Portland Air Quality Control Region | 10/30/1975 | 01/08/1982, 47 FR 947 | Department Findings of Fact and Order—Sulfur Dioxide Control Strategy.
Sulfur Dioxide Control Strategy—Low Sulfur Fuel Regulation | Portland-Peninsula Air Quality Control Region | 10/30/1975 | 01/08/1982, 47 FR 947 | Department Findings of Fact and Order—Implementation Plan Revision.
Letter from the Maine DEP documenting the December 1990 survey conducted to satisfy the 5 percent demonstration requirement in order to justify the 3500 gallon capacity cut-off in Chapter 112 | Maine | 06/03/1991 | 02/03/1992, 57 FR 3046.
Withdrawal of Air Emission Licenses for: Pioneer Plastics; Eastern Fine Paper; and S.D. Warren, Westbrook | Maine | 10/03/1990 | 02/03/1992, 57 FR 3046 | Department of Environmental Protection Letter dated December 5, 1989, withdrawing three source-specific licenses as of October 3, 1990.
Portions of Chapter 1 entitled “Regulations for the Processing of Applications” | Maine | 02/08/1984 | 03/23/1993, 58 FR 15422.
Review of New Sources and Modifications | Maine | 11/06/1989 | 03/23/1993, 58 FR 15422 | Revision to Chapter 6 of the SIP.
Letter from the Maine DEP regarding implementation of BACT | Maine | 05/01/1989 | 03/23/1993, 58 FR 15422.
Review of New Sources and Modifications | Maine | 11/02/1990 | 03/18/1994, 59 FR 12853 | Revision to Chapter 6 of the SIP.
Joint Memorandum of Understanding (MOU) Among: City of Presque Isle; ME DOT and ME DEP | City of Presque Isle, Maine | 03/11/1991 | 01/12/1995, 60 FR 2885 | Part B of the MOU which the Maine Department of Environmental Protection (ME DEP) entered into with the City of Presque Isle, and the Maine Department of Transportation (ME DOT).
Maine State Implementation Plan to Attain the NAAQS for Particulate Matter (PM10) Presque Isle Maine | City of Presque Isle, Maine | 08/14/1991 | 01/12/1995, 60 FR 2885 | An attainment plan and demonstration which outlines Maine's control strategy for attainment of the PM10 NAAQS and implement RACM and RACT requirements for Presque Isle.
Memorandum of Understanding among: City of Presque Isle; ME DOT and ME DEP | City of Presque Isle, Maine | 05/25/1994 | 08/30/1995, 60 FR 45056 | Revisions to Part B of the MOU which the ME DEP entered into (and effective) on May 25, 1994, with the City of Presque Isle, and the ME DOT.
Maintenance Demonstration and Contingency Plan for Presque Isle | City of Presque Isle, Maine | 04/27/1994 | 08/30/1995, 60 FR 45056 | A maintenance demonstration and contingency plan which outline Main's control strategy maintenance of the PM10 NAAQS and contingency measures and provision for Presque Isle.
Letter from the Maine DEP dated July 7, 1994, submitting Small Business Technical Assistance Program | Maine | 07/07/1994 | 09/12/1995, 60 FR 47285 | Letter from the Maine Department of Environmental Protection submitting a revision to the Maine SIP.
Revisions to the SIP for the Small Business Stationary Source Technical and Environmental Compliance Assistance Program | Maine Statewide | 05/12/1994 | 09/12/1995, 60 FR 47285 | Revisions to the SIP for the Small Business Stationary Source Technical and Environmental Compliance Assistance Program Dated July 12, 1994 and effective on May 11, 1994.
Corrected page number 124 of the Small Business Stationary Source Technical and Environmental Compliance Assistance Program SIP | Maine | 08/16/1994 | 09/12/1995, 60 FR 47285 | Letter from ME DEP dated August 16, 1994 submitting a corrected page to the July 12, 1994 SIP revision.
Negative Declaration for Synthetic Organic Chemical Manufacturing Industry Distillation and Reactors Control Technique Guideline Categories | Maine Statewide | 11/15/1994 | 04/18/2000, 65 FR 20749 | Letter from ME DEP dated November 15, 1994 stating a negative declaration for the Synthetic Organic Chemical Manufacturing Industry Distillation and Reactors Control Technique Guideline Categories.
Letter from the Maine Department of Environmental Protection regarding Control of Motor Vehicle Pollution (Inspection and Maintenance Program) | Greater Portland Metropolitan Statistical Area | 11/19/1998 | 01/10/2001, 66 FR 1875 | Letter from the Maine Department of Environmental Protection dated November 19, 1998 submitting a revision to the Maine SIP.
State of Maine Implementation Plan for Inspection/Maintenance dated November 11, 1998 | Greater Portland Metropolitan Statistical Area | 11/11/1998 | 01/10/2001, 66 FR 1875 | Maine Motor Vehicle Inspection and Maintenance Program.
Letter from the Maine DEP submitting additional technical support and an enforcement plan for Chapter 119 as an amendment to the SIP | Southern Maine | 05/29/2001 | 03/06/2002, 67 FR 10099 | Letter from the Maine Department of Environmental Protection dated May 29, 2001 submitting additional technical support and an enforcement plan for Chapter 119 as an amendment to the State Implementation Plan.
Application for a Waiver of Federally-Preempted Gasoline Standards | Southern Maine | 05/25/2001 | 03/06/2002, 67 FR 10099 | Additional technical support.
Letter from the Maine DEP dated July 1, 1997, submitting case-specific NOX RACT determinations | Maine | 07/01/1997 | 09/09/2002, 67 FR 57148 | Letter from the Maine Department of Environmental Protection submitting a revision to the Maine SIP.
Letter from the Maine DEP dated October 9, 1997, submitting case-specific NOX RACT determinations | Maine | 10/09/1997 | 09/09/2002, 67 FR 57148 | Letter from the Maine Department of Environmental Protection submitting a revision to the Maine SIP.
Letter from the Maine DEP dated August 14, 1998, submitting case-specific NOX RACT determinations | Maine | 08/14/1998 | 09/09/2002, 67 FR 57148 | Letter from the Maine Department of Environmental Protection submitting a revision to the Maine SIP.
Chapter 127 Basis Statement | Maine | 12/31/2000 | 04/28/2005, 70 FR 21959.
Correspondence from Maine DEP indicating which portions of Chapter 137 should not be incorporated into the State's SIP | Maine | 06/06/2006 | 11/21/2007, 72 FR 65462 | Correspondence from David W. Wright of the Maine DEP indicating which portions of Chapter 137 Emission Statements should not be incorporated into the State's SIP.
State of Maine MAPA 1 form for Chapter 139 Transportation Conformity | Maine nonattainment areas, and attainment areas with a maintenance plan | 09/10/2007 | 02/08/2008, 73 FR 7465 | Certification that the Attorney General approved the Rule as to form and legality.
Amendment to Chapter 141 Conformity of General Federal Actions | Maine nonattainment areas, and attainment areas with a maintenance plan | 04/19/2007 | 02/20/2008, 73 FR 9203 | Maine Department of Environmental Protection amended its incorporation-by-reference within Chapter 141.2 to reflect EPA's revision to the Federal General Conformity Rule for fine particulate matter promulgated on July 17, 2006 (71 FR 40420-40427); specifically 40 CFR 51.852 Definitions and 40 CFR 51.853 Applicability.
State of Maine MAPA 1 form for Chapter 102 Open Burning Regulation | Maine | 01/03/2003 | 02/21/2008, 73 FR 9459 | Certification that the Attorney General approved the Rule as to form and legality.
³ In order to determine the EPA effective date for a specific provision listed in this table, consult the Federal Register notice cited in this column for the particular provision.

[FR Doc. E8-22958 Filed 9-30-08; 8:45 am]

BILLING CODE 6560-50-P